ENVIRONMENTAL PROTECTION AGENCY

[ER-FRL-6616-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-J65046-WY Rating LO, Bridger-Teton National Forest, Oil and Gas Leasing in Management Areas: 21-Hoback Basin; 45 Moccasin Basin; 71 Union Pass and 72 Upper Basin River, Fremont, Sublette and Teton Counties, WY.

Summary: While EPA expressed lack of objections with the preferred alternative there was concern due to potential adverse impacts should alternative 2, 3 or 5 be selected.

ERP No. D-AFS-J65328-SD Rating EC2, Jasper Fires Value Recovery Area Project, Implementation, Revised Forest Plan for the Black Hills National Forest, Hell Canyon and Mystic Ranger District, Custer and Pennington Counties, SD.

Summary: EPA expressed environmental concerns over potential impacts to ground water and suggests that the FEIS include information to make this determination. In addition, potential for adverse impacts to old growth and snags as well as an analysis of the impacts from related salvage activity on other structures (fences, tanks, etc) should be addressed.

ERP No. D-FAA-F51047-00 Rating LO, Chicago Terminal Airspace Project (CTAP), For Proposed Air Traffic Control Procedures and Airspace Modification for Aircraft Operating To/From the Chicago Region, Including Chicago O'Hare International Airport, Chicago Midway Airport, Milwaukee Mitchell International Airport, IL, IN and WI.

Summary: EPA has no objection to the proposed action since documention indicates that no significant noise impacts or adverse impacts on other environmental resources are likely to occur following project implementation.

ERP No. D-NPS-G61040-TX Rating LO, Fort Davis National Historic Site, General Management Plan, Implementation, Fort Davis, TX.

Summary: EPA had no objections to the selection of the preferred alternative.

Final EISs

ERP No. F-BLM-J65318-00 Montana, North Dakota and Portions of South Dakota Off-Highway Vehicle Management and Plan Amendment, Implementation, MT, ND and SD.

Summary: While this plan attempts to balance environmental protection with recreational use EPA continues to express concerns about potential environmental degradation of non-system roads and trails on public lands.

Dated: March 6, 2001.
Joseph C. Montgomery,
Director, NEPA Compliance Division, Office of Federal Activities.

[FR Doc. 01-5913 Filed 3-8-01; 8:45 am]

BILLING CODE 6560-50-P